DEPARTMENT OF THE INTERIOR

Bureau of Land Management

[BLM_HQ_FRN_MO4500183156]

Notice of Availability of the Proposed Resource Management Plan Amendment and Final Environmental Impact Statement for Greater Sage-Grouse Rangewide Planning

AGENCY: Bureau of Land Management, Interior.

ACTION: Notice of availability.

SUMMARY: In compliance with the National Environmental Policy Act of 1969, as amended, and the Federal Land Policy and Management Act of 1976, as amended, the Bureau of Land Management (BLM) has prepared a Proposed Resource Management Plan Amendment (RMPA) and Final Environmental Impact Statement (EIS) for the Greater Sage-Grouse Rangewide Planning and by this notice is announcing the start of a 30-day protest period of the Proposed RMPA to the BLM Director.

DATES: This notice announces the beginning of a 30-day protest period to the BLM on the Proposed RMPA. Protests must be postmarked or electronically submitted on the BLM's ePlanning site within 30 days of the date that the Environmental Protection Agency (EPA) publishes its Notice of Availability (NOA) in the Federal Register. The EPA usually publishes its NOAs on Fridays.

ADDRESSES: The Proposed RMPA, Final EIS, and associated documents are available on the BLM ePlanning project website at: https://eplanning.blm.gov/eplanning-ui/project/2016719/510. Documents pertinent to this proposal may also be examined at the BLM State Offices in California, Colorado, Idaho, Montana, Nevada, Oregon, Utah, and Wyoming.

Instructions for filing a protest with the BLM for the Greater Sage-Grouse Rangewide Planning can be found at: https://www.blm.gov/programs/planning-and-nepa/public-participation/filing-a-plan-protest and at 43 CFR 1610.5-2.

FOR FURTHER INFORMATION CONTACT: Pat Deibert, BLM National Sage-Grouse Conservation Coordinator; telephone: 720-447-8107; address: 5353 Yellowstone Road, Cheyenne, WY 82009; email: BLM_HQ_GRSG_Planning@blm.gov. Individuals in the United States who are deaf, deafblind, hard of hearing, or have a speech disability may dial 711 (TTY, TDD, or TeleBraille) to access telecommunications relay services for contacting Dr. Deibert. Individuals outside the United States should use the relay services offered within their country to make international calls to the point-of-contact in the United States.

SUPPLEMENTARY INFORMATION: The RMPA would change goals, objectives, and management from previous planning efforts in 77 land use plans to enhance Greater sage-grouse (GRSG) conservation through management of sagebrush habitats on BLM-administered lands. The planning area includes portions of 10 Western states with GRSG habitat: California, Colorado, Idaho, Montana, Nevada, North Dakota, Oregon, South Dakota, Utah, and Wyoming, and encompasses nearly 121 million acres of BLM-administered public lands. Because this effort is focused on GRSG habitat management, decisions resulting from this amendment effort could affect up to 69 million acres of BLM-administered lands associated with the applicable GRSG habitat management areas. No decisions are being made on National Forest System lands or the underlying Federal mineral estate as part of this process.

This RMPA builds on existing RMP direction related to GRSG conservation that was established in earlier planning efforts. The 2015 GRSG RMPA amended or revised RMPs in the planning area to provide for GRSG conservation on public lands. In the 2019 GRSG RMPAs, the BLM amended some of the 2015 GRSG plan decisions in the states of California, Colorado, Idaho, Nevada, Oregon, Utah, and Wyoming. On October 16, 2019, the United States District Court for the District of Idaho preliminarily enjoined the BLM from implementing the 2019 GRSG RMPAs (Case No. 1:16-CV-83-BLW).

The BLM's purpose and need is to amend certain 2015 and 2019 GRSG RMPA goals, objectives, allocations, and management actions in order to respond to updated scientific information and changing land uses and provide for consistent and effective rangewide conservation based on biological information that is responsive to locally relevant habitat variability. These were selected based on an internal review of the effectiveness of 2015 and 2019 RMPA decisions and the degree to which those decisions sufficiently and appropriately addressed existing threats to GRSG habitats and continued population declines, while balancing the BLM's ability to manage public lands for other uses, and were additionally informed by updated scientific findings and feedback received from Tribal, Federal, state, and local agencies and the public. All goals, objectives, or decisions from the 2015 or 2019 RMPAs that are not being considered for amendment would remain in place.

In preparing the Proposed RMPA, the BLM analyzed six alternatives in detail, including the No Action Alternative. Alternative 1 includes the applicable elements (goals, objectives, and management direction) of the 2015 GRSG amendment efforts. Alternative 2, the No Action Alternative, includes the applicable RMP elements from the 2019 GRSG amendment effort. Alternative 3 emphasizes GRSG conservation and protection and has the highest amount of preservation measures of the alternatives and includes the identification of Areas of Critical Environmental Concern (ACECs). Alternative 4 emphasizes conservation while providing more allowances for public land uses than Alternative 3 and adjusts GRSG habitat management areas based on new information and science available since the previous planning efforts. Alternative 5, identified as the Preferred Alternative in the Draft RMPA and EIS, balances conservation with increased levels of site-specific allowances for public land uses and aligns habitat management areas with new information and science. Alternative 6 applies all the same habitat management areas and associated management as Alternative 5 but includes the identification of ACECs.

Public review of the Draft RMPA and EIS began on March 15, 2024, and ended on June 13, 2024. During the 90-day comment period, the BLM held 13 public meetings, including two virtual meetings and 11 in-person meetings throughout the planning area. Over 38,000 submissions were received, including about 6,000 individual comments. Major comment themes included management direction for renewable energy, lands and realty actions, fluid minerals, livestock grazing and predation, and the RMPA processes for mitigation, disturbance caps, and adaptive management. Comments received on the Draft RMPA and EIS were considered and addressed in the Proposed RMPA and Final EIS. In response to public and cooperating comments and internal review of the alternatives and effects described in the Draft EIS, the BLM developed the Proposed RMPA. The Proposed RMPA increases protections for GRSG from the Preferred Alternative while maintaining an appropriate balance of public land uses. The Proposed RMPA incorporates management direction approaches from all of the alternatives analyzed in the Draft RMPA and EIS. Specifically, priority habitat management areas (PHMA) are identified as exclusion for solar and wind energy. PHMA remains an avoidance area for major rights-of-way, but there are fewer allowable exceptions for development. A subset of PHMA requiring additional protections has been identified as PHMA with Limited Exceptions, which would be managed as exclusion areas for major rights-of-way, with no exceptions to the solar and wind exclusion allocation or to the no surface occupancy allocation for fluid minerals. These additional protections will provide the necessary protections for GRSG habitat given anticipated development threats and negative impacts from climate change while also ensuring an appropriate balance of public land uses.

Protest of the Proposed RMP Amendment

The BLM planning regulations state that any person who participated in the preparation of the RMP and has an interest which will or might be adversely affected by approval of the Proposed RMPA may protest its approval to the BLM. Protest on the Proposed RMPA constitutes the final opportunity for administrative review of the proposed land use planning decisions prior to the BLM adopting an approved RMPA. Instructions for filing a protest with the BLM regarding the Proposed RMPA may be found online (see ADDRESSES). All protests must be in writing and mailed to the appropriate address found on the protest web page or submitted electronically through the BLM ePlanning project website (see ADDRESSES). Protests submitted electronically by any means other than the ePlanning project website will be invalid unless a hard copy of the protest is also submitted. The BLM will render a written decision on each protest. The protest decision of the BLM shall be the final decision of the Department of the Interior. Responses to valid protest issues will be compiled and documented in a Protest Resolution Report made available following the protest resolution online at: https://www.blm.gov/programs/planning-and-nepa/public-participation/protest-resolution-reports. Upon resolution of protests, the BLM will issue seven state-specific Records of Decision and Approved RMPAs.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10 (2023), 43 CFR 1610.2; 43 CFR 1610.5)

Sharif Branham,
Assistant Director for Resources and Planning.

[FR Doc. 2024-26483 Filed 11-14-24; 8:45 am]

BILLING CODE 4331-27-P